DEPARTMENT OF THE INTERIOR

National Park Service

[NPS-WASO-NAGPRA-10855; 2200-1100-665]

Notice of Inventory Completion: The Robert S. Peabody Museum of Archaeology, Phillips Academy, Andover, MA

AGENCY: National Park Service, Interior.

ACTION: Notice.

SUMMARY: The Robert S. Peabody Museum of Archaeology has completed an inventory of human remains, in consultation with the appropriate Indian tribes, and has determined that there is no cultural affiliation between the remains and any present-day Indian tribe. Representatives of any Indian tribe that believes itself to be culturally affiliated with the human remains may contact the Robert S. Peabody Museum of Archaeology. Disposition of the human remains to the Indian tribes stated below may occur if no additional requestors come forward.

DATES: Representatives of any Indian tribe that believes it has a cultural affiliation with the human remains should contact the Robert S. Peabody Museum of Archaeology at the address below by September 13, 2012.

ADDRESSES: Bonnie K. Sousa, Robert S. Peabody Museum of Archaeology, Phillips Academy, Andover, MA 01810, telephone (978) 749-4490.

SUPPLEMENTARY INFORMATION: Notice is hereby given in accordance with the Native American Graves Protection and Repatriation Act (NAGPRA), 25 U.S.C. 3003, of the completion of an inventory of human remains in the possession of the Robert S. Peabody Museum of Archaeology. The human remains were removed from an unknown location in the town of Bellevue, in Eaton County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

The Robert S. Peabody Museum of Archaeology consulted with tribes in 1999 and 2011-2012. A detailed assessment of the human remains was made by the Robert S. Peabody Museum of Archaeology professional staff in consultation with representatives of the Bay Mills Indian Community, Michigan; Grand Traverse Band of Ottawa and Chippewa Indians, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Mille Lacs Band of the Minnesota Chippewa Tribe, Minnesota; Red Lake Band of Chippewa Indians, Minnesota; Saginaw Chippewa Indian Tribe of Michigan; Sault Ste. Marie Tribe of Chippewa Indians of Michigan; St. Croix Chippewa Indians of Wisconsin; and the Turtle Mountain Band of Chippewa of North Dakota.

The Robert S. Peabody Museum of Archaeology attempted consultation with the following tribes in 1999 or 2011-2012, though consultation did not occur: Bad River Band of Lake Superior Chippewa Indians of the Bad River Reservation, Wisconsin; Chippewa Cree Indians of the Rocky Boy's Reservation, Montana; Keweenaw Bay Indian Community, Michigan; Minnesota Chippewa Tribe, Minnesota (five component reservations: Bois Forte Band (Nett Lake), Fond du Lac Band, Grand Portage Band, Leech Lake Band, White Earth Band); Red Cliff Band of Lake Superior Chippewa Indians of Wisconsin; and the Sokaogon Chippewa Community, Wisconsin.

History and Description of the Remains

On an unknown date prior to 1901, fragmentary human remains representing, at minimum, one individual were removed from an unknown location in Bellevue, MI. The human remains were donated to the Robert S. Peabody Museum of Archaeology by J.F. Smith in 1901. No known individuals were identified. No associated funerary objects are present.

Determinations Made by the Robert S. Peabody Museum of Archaeology

Officials of the Robert S. Peabody Museum of Archaeology have determined that:

• Based on examination by osteologist Michael Gibbons, the human remains are determined to be Native American and represent the fragmentary remains of one individual.

• Pursuant to 25 U.S.C. 3001(2), a relationship of shared group identity cannot be reasonably traced between the Native American human remains and any present-day Indian tribe.

• According to final judgments of the Indian Claims Commission, the land from which the Native American human remains were removed is the aboriginal land of the Saginaw Chippewa Indian Tribe of Michigan.

• The Treaty with the Chippewa, September 24, 1819, 7 Stat. 203, indicates that the land from which the Native American human remains were removed is part of the aboriginal land of the following tribes: The Bad River Band of Lake Superior Chippewa Indians of the Bad River Reservation, Wisconsin; Bay Mills Indian Community, Michigan; Chippewa Cree Indians of the Rocky Boy's Reservation, Montana; Grand Traverse Band of Ottawa and Chippewa Indians, Michigan; Keweenaw Bay Indian Community, Michigan; Lac Courte Oreilles Band of Lake Superior Chippewa Indians of Wisconsin; Lac du Flambeau Band of Lake Superior Chippewa Indians of Wisconsin; Lac Vieux Desert Band of Lake Superior Chippewa Indians, Michigan; Minnesota Chippewa Tribe, Minnesota (six component reservations: Bois Forte Band (Nett Lake), Fond du Lac Band, Grand Portage Band, Leech Lake Band, Mille Lacs Band, White Earth Band); Red Cliff Band of Lake Superior Chippewa Indians of Wisconsin; Red Lake Band of Chippewa Indians, Minnesota; Saginaw Chippewa Indian Tribe of Michigan; Sault Ste. Marie Tribe of Chippewa Indians of Michigan; St. Croix Chippewa Indians of Wisconsin; Sokaogon Chippewa Community, Wisconsin; and the Turtle Mountain Band of Chippewa, North Dakota.

• Pursuant to 43 CFR 10.11(c)(1), the disposition of the human remains is to the six tribes from Michigan who requested disposition in a letter dated August 1, 2011. The tribes are the Bay Mills Indian Community, Michigan; Grand Traverse Band of Ottawa and Chippewa Indians, Michigan; Keweenaw Bay Indian Community, Michigan; Lac Vieux Desert Band of Lake Superior Chippewa Indians, Michigan; Saginaw Chippewa Indian Tribe of Michigan; and Sault Ste. Marie Tribe of Chippewa Indians of Michigan.

Additional Requestors and Disposition

Representatives of any Indian tribe that believes itself to be culturally affiliated with the human remains or any other Indian tribe that believes it satisfies the criteria in 43 CFR 10.11(c)(1) should contact Bonnie Sousa, Registrar/Senior Collections Manager, The Robert S. Peabody Museum of Archaeology, Phillips Academy, Andover, MA 01810, telephone (978) 749-4490, before September 13, 2012. Disposition of the human remains to the Bay Mills Indian Community, Michigan; Grand Traverse Band of Ottawa and Chippewa Indians, Michigan; Keweenaw Bay Indian Community, Michigan; Lac Vieux Desert Band of Lake Superior Chippewa Indians, Michigan; Saginaw Chippewa Indian Tribe of Michigan; and Sault Ste. Marie Tribe of Chippewa Indians of Michigan, may proceed after that date if no additional requestors come forward.

The Robert S. Peabody Museum of Archaeology, Phillips Academy, Andover, MA, is responsible for notifying the Bad River Band of Lake Superior Chippewa Indians of the Bad River Reservation, Wisconsin; Bay Mills Indian Community, Michigan; Chippewa Cree Indians of the Rocky boy's Reservation, Montana; Grand Traverse Band of Ottawa and Chippewa Indians, Michigan; Keweenaw Bay Indian Community, Michigan; Lac Courte Oreilles Band of Lake Superior Chippewa Indians of Wisconsin; Lac du Flambeau Band of Lake Superior Chippewa Indians of Wisconsin; Lac Vieux Desert Band of Lake Superior Chippewa Indians, Michigan; Minnesota Chippewa Tribe, Minnesota (six component reservations: Bois Forte Band (Nett Lake), Fond du Lac Band, Grand Portage Band, Leech Lake Band, Mille Lacs Band, White Earth Band); Red Cliff Band of Lake Superior Chippewa Indians of Wisconsin; Red Lake Band of Chippewa Indians, Minnesota; Saginaw Chippewa Indian Tribe of Michigan; Sault Ste. Marie Tribe of Chippewa Indians of Michigan; St. Croix Chippewa Indians of Wisconsin; Sokaogon Chippewa Community, Wisconsin; and the Turtle Mountain Band of Chippewa, North Dakota, that this notice has been published.

Dated: July 13, 2012.
David Tarler,
Acting Manager, National NAGPRA Program.

[FR Doc. 2012-19932 Filed 8-13-12; 8:45 am]

BILLING CODE 4312-50-P